DEPARTMENT OF COMMERCE

Foreign-Trade Zones Board

[Order No. 2135]

Designation of New Grantee, Foreign-Trade Zone 123, Denver, Colorado

Pursuant to its authority under the Foreign-Trade Zones Act of June 18, 1934, as amended (19 U.S.C. 81a-81u), the Foreign-Trade Zones Board (the Board) adopts the following Order:

The Foreign-Trade Zones (FTZ) Board (the Board) has considered the application (docketed August 18, 2022) submitted by the City and County of Denver, grantee of FTZ 123, requesting reissuance of the grant of authority for said zone to the Rocky Mountain Word Trade Center Association d/b/a World Trade Center Denver, which has accepted such reissuance subject to approval by the FTZ Board. Upon review, the Board finds that the requirements of the FTZ Act and the Board's regulations are satisfied, and that the proposal is in the public interest.

Therefore, the Board approves the application and recognizes the Rocky Mountain Word Trade Center Association d/b/a World Trade Center Denver as the new grantee for Foreign-Trade Zone 123, subject to the FTZ Act and the Board's regulations, including section 400.13.

Dated: October 19, 2022.
Lisa W. Wang,
Assistant Secretary for Enforcement and Compliance, Alternate Chairman, Foreign-Trade Zones Board.

[FR Doc. 2022-23219 Filed 10-24-22; 8:45 am]

BILLING CODE 3510-DS-P